DEPARTMENT OF ENERGY

Federal Energy Regulatory Commission

Combined Notice of Filings #1

Take notice that the Commission received the following electric corporate filings:

Docket Numbers: EC16-67-000.

Applicants: Astoria Generating Company, L.P., Crete Energy Venture, LLC, Lincoln Generating Facility, LLC, New Covert Generating Company, LLC, Rolling Hills Generating, L.L.C.

Description: Application for authorization for disposition of jurisdictional facilities of Astoria Generating Company, L.P., et al.

Filed Date: 2/1/16.

Accession Number: 20160201-5590.

Comments Due: 5 p.m. ET 2/22/16.

Take notice that the Commission received the following electric rate filings:

Docket Numbers: ER10-2201-002; ER10-2212-002; ER12-1997-003; ER12-1998-003; ER13-1931-003; ER13-2043-003; ER13-2044-003; ER15-1176-002; ER15-1177-002; ER15-1178-002; ER16-237-002; ER16-238-002; ER13-291-002.

Applicants: Marina Energy, LLC, South Jersey Energy Company, South Jersey Energy ISO1, LLC, South Jersey Energy ISO2, LLC, South Jersey Energy ISO3, LLC, South Jersey Energy ISO4, LLC, South Jersey Energy ISO5, LLC, South Jersey Energy ISO6, LLC, South Jersey Energy ISO7, LLC, South Jersey Energy ISO8, LLC, South Jersey Energy ISO9, LLC, South Jersey Energy ISO10, LLC, EnergyMark, LLC.

Description: Notice of Change in Status of the South Jersey MBR sellers.

Filed Date: 2/1/16.

Accession Number: 20160201-5635.

Comments Due: 5 p.m. ET 2/22/16.

Docket Numbers: ER16-444-001.

Applicants: Wabash Valley Power Association, Inc.

Description: Tariff Amendment: Wabash Valley Power Association, Inc. Reactive Rate Schedule Volume No—Clone to be effective 2/1/2016.

Filed Date: 2/1/16.

Accession Number: 20160201-5570.

Comments Due: 5 p.m. ET 2/22/16.

Docket Numbers: ER16-845-000.

Applicants: PJM Interconnection, L.L.C., Commonwealth Edison Company.

Description: Section 205(d) Rate Filing: ComEd submits Transmission Upgrade Agreement No. 4405 among ComEd and Ameren to be effective 2/1/2016.

Filed Date: 2/1/16.

Accession Number: 20160201-5506.

Comments Due: 5 p.m. ET 2/22/16.

Docket Numbers: ER16-846-000.

Applicants: Southwest Power Pool, Inc.

Description: Section 205(d) Rate Filing: 3165 Otter Tail Power Company NITSA and NOA to be effective 1/1/2016.

Filed Date: 2/1/16.

Accession Number: 20160201-5532.

Comments Due: 5 p.m. ET 2/22/16.

Docket Numbers: ER16-847-000.

Applicants: Nevada Power Company.

Description: Tariff Cancellation: Rate Schedule No. 121 NPC and Boulder City Interim Ancillary Services Agreement to be effective 4/1/2013.

Filed Date: 2/1/16.

Accession Number: 20160201-5537.

Comments Due: 5 p.m. ET 2/22/16.

Docket Numbers: ER16-848-000.

Applicants: Nevada Power Company.

Description: Tariff Cancellation: Rate Schedule No. 127 NPC and SDG&E Agreement—Cancellation to be effective 7/1/2012.

Filed Date: 2/1/16.

Accession Number: 20160201-5538.

Comments Due: 5 p.m. ET 2/22/16.

Docket Numbers: ER16-849-000.

Applicants: Nevada Power Company.

Description: Tariff Cancellation: Rate Schedule No. 131 NPC & CRC Cost Reimb. Ltr Agr.—Cancellation to be effective 4/1/2013.

Filed Date: 2/1/16.

Accession Number: 20160201-5539.

Comments Due: 5 p.m. ET 2/22/16.

Docket Numbers: ER16-850-000.

Applicants: Nevada Power Company.

Description: Tariff Cancellation: Rate Schedule No. 134 NPC& Valley Electric Interim Balancing Agr.—Cancellation to be effective 6/11/2014.

Filed Date: 2/1/16.

Accession Number: 20160201-5540.

Comments Due: 5 p.m. ET 2/22/16.

Docket Numbers: ER16-851-000.

Applicants: Southwest Power Pool, Inc.

Description: Section 205(d) Rate Filing: 1148R22 American Electric Power NITSA and NOA to be effective 1/1/2016.

Filed Date: 2/1/16.

Accession Number: 20160201-5544.

Comments Due: 5 p.m. ET 2/22/16.

Docket Numbers: ER16-852-000.

Applicants: Wisconsin Electric Power Company.

Description: Section 205(d) Rate Filing: Wisconsin Electric Amended Wholesale Distribution for Alger Delta 2-1-16 to be effective 4/1/2016.

Filed Date: 2/1/16.

Accession Number: 20160201-5545.

Comments Due: 5 p.m. ET 2/22/16.

Docket Numbers: ER16-853-000.

Applicants: Enterprise Solar, LLC.

Description: Baseline eTariff Filing: Application for Market-Based Rate Authority to be effective 4/2/2016.

Filed Date: 2/1/16.

Accession Number: 20160201-5546.

Comments Due: 5 p.m. ET 2/22/16.

Docket Numbers: ER16-854-000.

Applicants: Southwest Power Pool, Inc.

Description: Section 205(d) Rate Filing: 1628R8 Western Farmers Electric Cooperative NITSA NOA to be effective 1/1/2016.

Filed Date: 2/1/16.

Accession Number: 20160201-5547.

Comments Due: 5 p.m. ET 2/22/16.

Docket Numbers: ER16-855-000.

Applicants: Escalante Solar I, LLC.

Description: Baseline eTariff Filing: Application for Market-Based Rate Authority to be effective 4/2/2016.

Filed Date: 2/1/16.

Accession Number: 20160201-5548.

Comments Due: 5 p.m. ET 2/22/16.

Docket Numbers: ER16-856-000.

Applicants: Escalante Solar II, LLC.

Description: Baseline eTariff Filing: Application for Market-Based Rate Authority to be effective 4/2/2016.

Filed Date: 2/1/16.

Accession Number: 20160201-5550.

Comments Due: 5 p.m. ET 2/22/16.

Docket Numbers: ER16-857-000.

Applicants: Escalante Solar III, LLC.

Description: Baseline eTariff Filing: Application for Market-Based Rate Authority to be effective 4/2/2016.

Filed Date: 2/1/16.

Accession Number: 20160201-5551.

Comments Due: 5 p.m. ET 2/22/16.

Docket Numbers: ER16-858-000.

Applicants: Granite Mountain Solar East, LLC.

Description: Baseline eTariff Filing: Application for Market-Based Rate Authority to be effective 4/2/2016.

Filed Date: 2/1/16.

Accession Number: 20160201-5554.

Comments Due: 5 p.m. ET 2/22/16.

Docket Numbers: ER16-859-000.

Applicants: Southwest Power Pool, Inc.

Description: Section 205(d) Rate Filing: 1630R6 The Empire District Electric Company NITSA and NOA to be effective 1/1/2016.

Filed Date: 2/1/16.

Accession Number: 20160201-5566.

Comments Due: 5 p.m. ET 2/22/16.

Docket Numbers: ER16-860-000.

Applicants: Granite Mountain Solar West, LLC.

Description: Baseline eTariff Filing: Application for Market-Based Rate Authority to be effective 4/2/2016.

Filed Date: 2/1/16.

Accession Number: 20160201-5568.

Comments Due: 5 p.m. ET 2/22/16.

Docket Numbers: ER16-861-000.

Applicants: Iron Springs Solar, LLC.

Description: Baseline eTariff Filing: Application for Market-Based Rate Authority to be effective 4/2/2016.

Filed Date: 2/1/16.

Accession Number: 20160201-5569.

Comments Due: 5 p.m. ET 2/22/16.

Docket Numbers: ER16-862-000.

Applicants: Southwest Power Pool, Inc.

Description: Section 205(d) Rate Filing: 3126R1 WAPA NITSA and NOA to be effective 1/1/2016.

Filed Date: 2/1/16.

Accession Number: 20160201-5582.

Comments Due: 5 p.m. ET 2/22/16.

Docket Numbers: ER16-863-000.

Applicants: Southwest Power Pool, Inc.

Description: Section 205(d) Rate Filing: 3125R1 Basin Electric Power Cooperative NITSA and NOA to be effective 1/1/2016.

Filed Date: 2/1/16.

Accession Number: 20160201-5583.

Comments Due: 5 p.m. ET 2/22/16.

Docket Numbers: ER16-864-000.

Applicants: ISO New England Inc.

Description: ISO New England Inc. Resource Termination—Spruce Mountain Wind, LLC.

Filed Date: 2/1/16.

Accession Number: 20160201-5593.

Comments Due: 5 p.m. ET 2/22/16.

Docket Numbers: ER16-865-000.

Applicants: Nevada Power Company.

Description: Notice of Cancellation of Service Agreement No. 4 of Nevada Power Company.

Filed Date: 2/1/16.

Accession Number: 20160201-5599.

Comments Due: 5 p.m. ET 2/22/16.

Docket Numbers: ER16-866-000.

Applicants: MDU Resources Group, Inc.

Description: Request for Waiver of MDU Resources Inc.

Filed Date: 2/1/16.

Accession Number: 20160201-5628.

Comments Due: 5 p.m. ET 2/22/16.

Docket Numbers: ER16-867-000.

Applicants: AEP Texas North Company.

Description: Section 205(d) Rate Filing: TNC-Texas-New Mexico Power Interconnection Agreement to be effective 1/18/2016.

Filed Date: 2/2/16.

Accession Number: 20160202-5078.

Comments Due: 5 p.m. ET 2/23/16.

Docket Numbers: ER16-868-000.

Applicants: PJM Interconnection, L.L.C.

Description: Section 205(d) Rate Filing: Amendment to ISA No. 4030, Queue No. AA1-102 to be effective 6/26/2015.

Filed Date: 2/2/16.

Accession Number: 20160202-5079.

Comments Due: 5 p.m. ET 2/23/16.

Docket Numbers: ER16-869-000.

Applicants: PJM Interconnection, L.L.C.

Description: Section 205(d) Rate Filing: Original Service Agreement No. 4391; Queue AB1-020 (WMPA) to be effective 1/8/2016.

Filed Date: 2/2/16.

Accession Number: 20160202-5086.

Comments Due: 5 p.m. ET 2/23/16.

Docket Numbers: ER16-870-000.

Applicants: ISO New England Inc.

Description: Section 205(d) Rate Filing: New Effective Date for Do Not Exceed (“DNE”) Dispatch Changes to be effective 5/25/2016.

Filed Date: 2/2/16.

Accession Number: 20160202-5092.

Comments Due: 5 p.m. ET 2/23/16.

Docket Numbers: ER16-871-000.

Applicants: Portland General Electric Company.

Description: Section 205(d) Rate Filing: PGE OATT Section 7 Revision to be effective 4/2/2016.

Filed Date: 2/2/16.

Accession Number: 20160202-5094.

Comments Due: 5 p.m. ET 2/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2016.
Nathaniel J. Davis, Sr.,
Deputy Secretary.

[FR Doc. 2016-02468 Filed 2-8-16; 8:45 am]

BILLING CODE 6717-01-P